DEPARTMENT OF COMMERCE

National Oceanic and Atmospheric Administration

[RTID 0648-XE943]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by the Coonamessett Farm Foundation, Inc. (CFF). Regulations under the Magnuson-Stevens Fishery Conservation and Management Act require publication of this notification to provide interested parties the opportunity to comment on applications for proposed EFPs.

DATES: Comments must be received on or before June 16, 2025.

ADDRESSES: You may submit written comments by the following method:

• Email: nmfs.gar.efp@noaa.gov. Include in the subject line “Investigation of baiting practices on seabird bycatch in gillnets.”

All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Ashley Trudeau, Fishery Resource Management Specialist, ashley.trudeau@noaa.gov, 978-281-9252.

SUPPLEMENTARY INFORMATION: The applicant submitted a complete application for an EFP to conduct commercial fishing activities that the regulations would otherwise restrict. This EFP would exempt the participating vessels from the following Federal regulations:

Table 1—Requested Exemptions
CFR citation | Regulation | Need for exemption
50 CFR 648.11, but not to include § 648.11(l)(3) | Monitoring Coverage | The vessels participating in this EFP have limited deck space and/or life raft capacity and cannot accommodate both an observer and a project scientist. As stated in § 648.11(l)(3), the participating vessels are still required to submit pre-trip notifications.

Project Narrative

CFF is requesting an EFP in support of a study aimed at better understanding how demersal gillnet baiting practices influence shearwater bycatch off the coast of Cape Cod. In the subject fishery, vessels harvest and process skates, and then use the skate racks to bait gillnets that are deployed to target dogfish, which can result in bycaught seabirds. This EFP would be issued for the second year of a 2-year study. In the project's first year, experimental fishing produced preliminary findings that baiting after gillnet deployment increased target catch while reducing seabird bycatch. In this second year of sampling, the project team proposes to conduct additional trials to ensure collection of a balanced dataset, with additional trials comparing the effects of baiting before and after deployment.

Sampling for this study would begin on July 1, 2025, and end by November 15, 2025. Under the EFP, five participating vessels would be exempt from Northeast Fishery Observer Program monitoring coverage due to limited space on vessels and life rafts needed to accommodate CFF personnel during research trips. No other exemptions are needed to perform this project. Vessels will target dogfish using 6.5-inch (16.5-cm) mesh gillnets set in strings consisting of 12 nets each. Of the 12 nets, half will utilize either forward baiting (baiting nets before setting) or after baiting (baiting nets after setting), and the remaining nets will not include bait. The vessels are expected to spend approximately 25 days on the water on Georges Bank, southeast of Cape Cod, with approximately two vessels fishing per day. A maximum of 50 vessel trips will be taken, with 1 gillnet set per trip and a soak time ranging from 45 minutes to 3 hours. CFF intends to use retained and discarded catch weights to assess the effect that different baiting treatments have on catch. Any entangled seabird will be documented in detail. CFF intends to use cameras to quantify behavior and abundance of seabird species in the study area. The results may help researchers determine if high levels of seabird bycatch correlate with specific gillnet baiting strategies.

CFF, or contracted scientific personnel, will accompany vessels on trips under the EFP. Legal catch will be landed for sale. If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 20, 2025.
Kelly Denit,
Director, Office of Sustainable Fisheries, National Marine Fisheries Service.

[FR Doc. 2025-09792 Filed 5-29-25; 8:45 am]

BILLING CODE 3510-22-P